RAILROAD RETIREMENT BOARD

Sunshine Act Meeting

Notice is hereby given that the Railroad Retirement Board will hold a meeting on March 22, 2000, 9:00 a.m., at the Board's meeting room on the 8th floor of its headquarters building, 844 North Rush Street, Chicago, Illinois, 60611. The agenda for this meeting follows:

Portion Open to the Public

(1) Proposed Legislation.

(2) Medicare Contract.

Portion Closed to the Public

(A) Guidance of the Executive Committee.

The person to contact for more information is Beatrice Ezerski, Secretary to the Board, Phone No. 312-751-4920.

Dated: March 13, 2000.
Beatrice Ezerski,
Secretary to the Board.

[FR Doc. 00-6612 Filed 3-14-00; 10:37 am]

BILLING CODE 7905-01-M